DEPARTMENT OF HOUSING AND URBAN DEVELOPMENT

[Docket No. FR-5188-N-10]

Notice of Proposed Information Collection: Comment Request; CDBG Urban County/New York Towns Qualification/Requalification Process, Notice

AGENCY: Office of Community Planning and Development, HUD.

ACTION: Notice.

SUMMARY: The proposed information collection requirement described below will be submitted to the Office of Management and Budget (OMB) for review, as required by the Paperwork Reduction Act. The Department is soliciting public comments on the subject proposal.

DATES: Comments Due Date: September 2, 2008.

ADDRESSES: Interested persons are invited to submit comments regarding this proposal. Comments should refer to the proposal by name and/or OMB Control Number and should be sent to: Lillian L. Deitzer, Departmental Reports Management Officer, QDAM, Department of Housing and Urban Development, 451 7th Street, SW., Room 4176, Washington, DC 20410; telephone: 202-708-2374 (this is not a toll-free number) or e-mail Ms. Deitzer at Lillian.L.Deitzer@hud.gov for a copy of the proposed form and other available information.

FOR FURTHER INFORMATION CONTACT: Steve Johnson, Director, Entitlement Communities Division, Office of Block Grant Assistance, 451 7th Street, SW., Room 7282, Washington, DC 20410; telephone (202) 708-1577 (this is not a toll-free number).

SUPPLEMENTARY INFORMATION: The Department will submit the proposed information collection to OMB for review, as required by the Paperwork Reduction Act of 1995 (44 U.S.C. Chapter 35, as amended).

This Notice solicits comments from members of the public and affected agencies concerning the proposed collection of information to: (1) Evaluate whether the proposed collection of information is necessary for the proper performance of the functions of the affected agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology, e.g., permitting electronic submission of responses.

This Notice also lists the following information:

Title of Proposal: Community Development Block Grant (CDBG) Urban County and New York Towns Qualification/Requalification Processes.

OMB Control Number, if applicable: 2506-0170.

Description of the need for the information and proposed use: The Housing and Community Development Act of 1974, as amended, at sections 102(a)(6) and 102(e) requires that any county seeking qualification as an urban county notify each unit of general local government within the county that such unit may enter into a cooperation agreement to participate in the CDBG program as part of the county. Section 102(d) of the statute specifies that the period of qualification will be three years. Based on these statutory provisions, counties seeking qualification or requalification as urban counties under the CDBG program must provide information to HUD every three years identifying the units of general local governments (UGLGs) within the county participating as a part of the county for purposes of receiving CDBG funds. The population of UGLGs for each eligible urban county and New York town are used in HUD's allocation of CDBG funds for all entitlement and State CDBG grantees.

New York towns must undertake a similar process every three years because under New York state law, New York towns that contain incorporated UGLGs within their boundaries cannot qualify as metropolitan cities unless they execute cooperation agreements with all such incorporated units. The New York town qualification process must be completed prior to the qualification of urban counties so that any town that does not qualify as a metropolitan city will still have an opportunity to participate as part of an urban county.

Agency form numbers, if applicable: N/A.

Members of affected public: Urban counties and New York towns that are eligible as entitlement grantees of the CDBG program.

Estimation of the total numbers of hours needed to prepare the information collection including number of respondents, frequency of response, and hours of response: There are currently 175 qualified urban counties participating in the CDBG program that must requalify every three years. On average, four new counties qualify each year. The burden on new counties is greater than for existing counties that requalify. The Department estimates new grantees use, on average, 100 hours to review instructions, contact communities in the county, prepare and review agreements, obtain legal opinions, have agreements executed at the local and county level, and prepare and transmit copies of required documents to HUD. The Department estimates that counties that are requalifying use, on average, 60 hours to complete these actions. The time savings on requalification is primarily a result of a grantee's ability to use agreements with no specified end date. Use of such “renewable” agreements enables the grantee to merely notify affected participating UGLGs in writing that their agreement will automatically be renewed unless the UGLG terminates the agreement in writing, rather than executing a new agreement every three years.

There are 10 New York towns that requalify every three years. They, too, may use “renewable” agreements that reduce the burden required under this process. The Department estimates that New York towns, on average, use 50 hours every three years to complete the requalification process.

Average of 4 new urban counties qualify per year:

4 × 100 hrs = 400 hrs.

175 grantees requalify on triennial basis; average annual number of respondents = 55:

55 × 60 hrs. = 3,300 hrs.

10 towns requalify every three years; average annual number of respondents = 3.3:

3.3 × 50 = 165 hrs.

Total combined burden hours: 3,865 hrs.

This total number of combined burden hours can be expected to increase by 400 hours annually, given the average of four new urban counties becoming eligible entitlement grantees each year.

Status of the proposed information collection: Existing collection number will expire October 31, 2008.

Authority: The Paperwork Reduction Act of 1995, 44 U.S.C. Chapter 35, as amended.

Dated: June 26, 2008.
Nelson R. Bregón,
General Deputy, Assistant Secretary for Community Planning and Development.

[FR Doc. E8-15025 Filed 7-1-08; 8:45 am]

BILLING CODE 4210-67-P